INTERNATIONAL TRADE COMMISSION

[Investigation No. 332-462]

Renewable Energy Services: An Examination of U.S. and Foreign Markets

AGENCY: International Trade Commission.

ACTION: Institution of investigation and scheduling of public hearing.

DATES: Effective August 3, 2004.

SUMMARY: Following receipt of a request on July 12, 2004 from the United States Trade Representative (USTR), the Commission instituted investigation No. 332-462, Renewable Energy Services: An Examination of U.S. and Foreign Markets, under section 332(g) of the Tariff Act of 1930 (19 U.S.C. 1332(g)).

FOR FURTHER INFORMATION CONTACT: Information specific to this investigation may be obtained from Lisa Ferens, Project Leader (202-205-3486; lisa.ferens@usitc.gov), Jennifer Baumert, Deputy Project Leader, (202-205-3450; jennifer.baumert@usitc.gov), or Richard Brown, Chief, Services and Investment Division (202-205-3438; richard.brown@usitc.gov), Office of Industries, U.S. International Trade Commission, Washington, DC, 20436. For information on the legal aspects of this investigation, contact William Gearhart of the Office of the General Counsel (202-205-3091; willam.gearhart@usitc.gov). Hearing impaired individuals are advised that information on this matter can be obtained by contacting the TDD terminal on (202) 205-1810.

Background: As requested by the USTR, the Commission's report will, to the extent possible, (1) provide an overview of foreign and domestic markets for renewable energy services; (2) examine trade and investment in renewable energy services markets, including barriers affecting such trade and investment, if any; and (3) if possible, discuss existing regulatory practices that generate demand for the subject services. USTR has requested that the Commission's study include examples from both developed- and developing-country markets. In addition, the USTR has asked the Commission to include examples—as appropriate—from those economies with which the United States has established, or is in the process of negotiating, free trade arrangements. To the extent possible, the Commission is also requested to present information on trade and market conditions for those goods related to the subject renewable energy services. For the purpose of this study, renewable energy services are defined to include: the use of renewable power sources—including wind, solar energy, biomass fuels, tidal energy, and geothermal energy—in heating or electricity generation; the sale of renewable energy; geological analysis, resource assessment, and other services incidental to the evaluation, planning, or siting of a renewable energy project or facility; design, construction, and installation services for renewable energy equipment and facilities; the operation, management, and monitoring of renewable energy projects or facilities; decommissioning services; services incidental to the issuance of renewable energy certificates; research and development services related to renewable energy; and other services incidental to the development and use of renewable power sources.

The USTR asked that the Commission furnish its report by October 1, 2005, and that the Commission make the report available to the public in its entirety.

Public Hearing: A public hearing in connection with the investigation will be held at the U.S. International Trade Commission Building, 500 E Street SW., Washington, DC, beginning at 9:30 a.m. on April 19, 2005. All persons shall have the right to appear, by counsel or in person, to present information and to be heard. Requests to appear at the public hearing should be filed with the Secretary, United States International Trade Commission, 500 E Street SW., Washington, DC 20436, no later than 5:15 p.m., April 5, 2005. Any prehearing briefs (original and 14 copies) should be filed not later than 5:15 p.m., April 7, 2005; the deadline for filing post-hearing briefs or statements is 5:15 p.m., May 5, 2005. In the event that, as of the close of business on April 5, 2005, no witnesses are scheduled to appear at the hearing, the hearing will be canceled. Any persons interested in attending the hearing as an observer or non-participant may call the Secretary of the Commission (202-205-1806) after April 5, 2005, for information concerning whether the hearing will be held.

Written Submissions: In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section § 201.6 of the Commission's Rules of Practice and Procedure (19 CFR 201.6). All written submissions, except for confidential business information, will be made available in the Office of the Secretary to the Commission for inspection by interested parties. The Commission will not include any confidential business information in the report it sends to the USTR. To be assured of consideration by the Commission, written statements relating to the Commission's report should be submitted to the Commission at the earliest practical date and should be received no later than the close of business on May 5, 2005. All submissions should be addressed to the Secretary, United States International Trade Commission, 500 E Street SW., Washington, DC 20436. The Commission's rules do not authorize filing submissions with the Secretary by facsimile or electronic means, except to the extent permitted by section 201.8 of the Commission's Rules of Practice and Procedure (19 CFR 201.8) (see Handbook for Electronic Filing Procedures, ftp://ftp.usitc.gov/pub/reports/electronic_filing_handbook.pdf). Persons with questions regarding electronic filing should contact the Secretary (202-205-2000 edis@usitc.gov).

Persons with mobility impairments who will need special assistance in gaining access to the Commission should contact the Office of the Secretary at 202-205-2000. General information concerning the Commission may also be obtained by accessing its Internet server (http://www.usitc.gov).

List of Subjects

WTO, GATS, renewable energy services.

Issued: August 5, 2004.
By order of the Commission.
Marilyn R. Abbott,
Secretary to the Commission.

[FR Doc. 04-18314 Filed 8-10-04; 8:45 am]

BILLING CODE 7020-02-P